NATIONAL AERONAUTICS AND SPACE ADMINISTRATION

48 CFR Parts 1802

RIN 2700-AE46

NASA Federal Acquisition Regulation Supplement: Removal of Definitions (NFS Case 2018-N017)

AGENCY: National Aeronautics and Space Administration.

ACTION: Direct final rule.

SUMMARY: NASA is issuing a final rule to amend the NASA Federal Acquisition Regulation (FAR) Supplement (NFS) to remove definitions which affect only the internal Agency administrative procedures and have no cost or administrative impact on contractors or prospective contractors.

DATES: This final rule is effective August 21, 2018. Comments due on or before July 23, 2018. If adverse comments are received, NASA will publish a timely withdrawal of the rule in the Federal Register.

ADDRESSES: Submit comments identified by NFS Case 2018-N017, using any of the following methods:

• Federal eRulemaking Portal: http://www.regulations.gov. Submit comments via the Federal eRulemaking portal by searching for “NFS Case 2018-N017”. Select the link “Comment Now” that corresponds with “NFS Case 2018-N017”. Follow the instructions provided on the screen. Please include your name, company name (if any), and “NFS Case 2018-N017” on any uploaded files.”

• Email: geoffrey.s.sage@nasa.gov. Include “NFS Case 2018-N017” in the subject line of the message.

FOR FURTHER INFORMATION CONTACT: Geoffrey S. Sage, NASA Headquarters, Office of Procurement, Contract and Grant Policy Division, Suite 5K32, 300 E Street SW, Washington, DC 20456-0001. Telephone 202-358-2420.

SUPPLEMENTARY INFORMATION:

I. Background

NFS part 1802, Definitions of Words and Terms, contains the following definitions that affect only the internal Agency administrative procedures and have no cost or administrative impact on contractors or prospective contractors: Administrator, Contracting activity, Head of the agency or agency head, Head of the contracting activity (HCA), NASA Acquisition internet Service (NAIS), Procurement officer, and Senior Procurement Executive. Pursuant to Executive Order 13563, Improving Regulation and Regulatory Review, and Executive Order 13777, Enforcing the Regulatory Reform Agenda, NASA is continually reviewing existing regulations with the objective of reducing or removing any unnecessary, outdated and burdensome requirements that have outlived their intended purpose. Because the definitions affect only the internal Agency administrative procedures they can be removed from the regulatory section of the NFS.

NASA does not anticipate opposition to the changes or significant adverse comments. However, if the Agency receives significant adverse comment, it will withdraw this final rule by publishing a document in the Federal Register. A significant adverse comment is one that explains: (1) Why the final rule is inappropriate, including challenges to the rule's underlying premise or approach; or (2) why the final rule will be ineffective or unacceptable without change. In determining whether a comment necessitates withdrawal of this final rule, NASA will consider whether it warrants a substantive response in a notice and comment process.

II. Publication of This Final Rule for Public Comment Is Not Required by Statute

Publication of proposed regulations, 41 U.S.C. 1707, is the statute which applies to the publication of the Federal Acquisition Regulation (FAR). Paragraph (a)(1) of the statute requires that a procurement policy, regulation, procedure or form (including an amendment or modification thereof) must be published for public comment if it relates to the expenditure of appropriated funds, and has either a significant effect beyond the internal operating procedures of the agency issuing the policy, regulation, procedure or form, or has a significant cost or administrative impact on contractors or offerors. This final rule is not required to be published for public comment because it makes nonsubstantive changes to Agency regulations that has no impact on contractors or prospective offerors as the definitions being removed affect only the internal Agency administrative procedures.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Executive Order 13371

This rule is not subject to Executive Order (E.O.) 13771, Reducing Regulation and Controlling Regulatory Costs, because this rule is not a significant regulatory action under E.O. 12866.

V. Regulatory Flexibility Act

The Regulatory Flexibility Act does not apply to this rule because this final rule does not constitute a significant NFS revision within the meaning of FAR 1.501-1 and 41 U.S.C. 1707 and therefore does not require publication for public comment.

VI. Paperwork Reduction Act

The rule does not contain any information collection requirements that require the approval of the Office of Management and Budget under the Paperwork Reduction Act (44 U.S.C. chapter 35).

List of Subjects in 48 CFR Part 1802

Government procurement.

Geoffrey Sage,
NASA FAR Supplement Manager.

PART 1802—[REMOVED]

Accordingly, under the authority of 51 U.S.C. 20113(a), 48 CFR part 1802 is removed.

[FR Doc. 2018-13475 Filed 6-21-18; 8:45 am]

BILLING CODE 7510-13-P